DEPARTMENT OF ENERGY

Federal Energy Regulatory Commission

Pinnacle West Energy Corporation, et al.; Electric Rate and Corporate Regulation Filings

September 1, 2000.

Take notice that the following filings have been made with the Commission:

1. Pinnacle West Energy Corporation

[Docket No. ER00-3553-000]

Take notice that on August 29, 2000, Pinnacle West Energy Corporation (PWE) submitted for filing a service agreement under PWE's proposed power sales tariff, for the sale by PWE of certain generation-related ancillary services, to Pinnacle West Capital Corporation.

Comment date: September 19, 2000, in accordance with Standard Paragraph E at the end of this notice.

2. NSTAR Services Company v. New England Power Pool, ISO New England, Inc., ISO New England, Inc., and ISO New England, Inc,

[Docket Nos. EL00-62-009 and ER00-2052-007]

Take notice that on August 25, 2000, ISO New England Inc., tendered for filing its Report of Compliance (Part 1 of 2) in response to the Commission's July 26, 2000 Order in these Dockets.

Copies of said filing have been served upon all parties to this proceeding, and upon NEPOOL Participants, and upon all non-Participant entities that are customers under the NEPOOL Open Access Transmission Tariff, as well as upon the utility regulatory agencies of the six New England States.

Comment date: September 25, 2000, in accordance with Standard Paragraph E at the end of this notice.

3. NSTAR Services Company v. New England Power Pool, ISO New England, Inc., ISO New England, Inc., and ISO New England, Inc.

[Docket Nos. EL00-62-010 and ER00-2052-008]

Take notice that on August 25, 2000, ISO New England Inc., tendered for filing its Report of Compliance (Part 2 of 2) in response to the Commission's July 26, 2000 Order in these Dockets. The report includes an attachment consisting of a Mitigation report, which is filed with a request for confidential treatment of portions thereof under 18 CFR 388.112.

Copies of said filing and a redacted version of the Mitigation Report have been served upon the Secretary and members of the NEPOOL Participants Committee, as well as upon the utility regulatory agencies of the six New England States and the New England Conference of Public Utilities Commissioners.

Comment date: September 25, 2000, in accordance with Standard Paragraph E at the end of this notice.

4. Commonwealth Edison Company, Commonwealth Edison Company of Indiana

[Docket No. ER99-4470-003]

Take notice that on August 25, 2000, Commonwealth Edison Company and Commonwealth Edison Company of Indiana (collectively ComEd), tendered for filing tariff sheets in compliance with the Commission's order of July 31, 2000, approving the Settlement in the above-referenced proceeding.

Comment date: September 15, 2000, in accordance with Standard Paragraph E at the end of this notice.

5. Pinnacle West Capital Corporation

[Docket No. ER00-3553-000]

Take notice that on August 29, 2000, Pinnacle West Capital Corporation (PWCC) tendered for filing a service agreement under PWCC's Rate Schedule FERC No. 1, for the sale by PWCC of certain generation-related ancillary services, to Arizona Public Service Company (APS).

Comment date: September 19, 2000, in accordance with Standard Paragraph E at the end of this notice.

6. Carolina Power & Light Company

[Docket No. ER00-3546-000]

Take notice that on August 29, 2000, Carolina Power & Light Company (CP&L), tendered for filing a Service Agreement for Short-Term Firm Point-to-Point Transmission Service with H.Q. Energy Services (U.S.) Inc. and a Service Agreement for Non-Firm Point-to-Point Transmission Service with H.Q. Energy Services (U.S.) Inc. Service to each Eligible Customer will be in accordance with the terms and conditions of Carolina Power & Light Company's Open Access Transmission Tariff.

CP&L is requesting an effective date of August 15, 2000 for each Agreement.

Copies of the filing were served upon the North Carolina Utilities Commission and the South Carolina Public Service Commission.

Comment date: September 19, 2000, in accordance with Standard Paragraph E at the end of this notice.

7. Wisconsin Electric Power Company

[Docket No. ER00-3161-001]

Take notice that on august 25, 2000, Wisconsin Electric Power Company (Wisconsin Electric), tendered for filing a compliance filing as requested in docket ER00-3161-000.

Copies of the filing have been served on BPMA, the Michigan Public Service Commission, and the Public Service Commission of Wisconsin.

Comment date: September 15, 2000, in accordance with Standard Paragraph E at the end of this notice.

8. Virginia Electric and Power Company

[Docket No. ER00-3097-001]

Take notice that on august 25, 2000, Virginia Electric and Power Company (Virginia Power), tendered for filing its amendment of the Assignment and Assumption Agreements entered into by and among PPL Electric Utilities Corporation (Assignor), and PPL EnergyPlus, LLC (Assignee) dated April 17, 2000. The amended filing included the original Service Agreements to which the Assignment and Assumption Agreements pertain. Under the assignments the Assignor assigns to the Assignee and the Assignee assumes all of the Assignor's rights and obligations pertaining to the following Service Agreements with Virginia Power:

1. Service Agreement for Short-Term Market Based Rate Power Sales dated May 15, 1995 and accepted by Letter Order dated July 19, 1995 in Docket No. ER95-1214-000;

2. Service Agreement for Non-Firm Point-to-Point Transmission Service dated April 17, 1997 and accepted by Letter Order dated June 30, 1997 in Docket No. ER97-3058-000;

3. Service Agreement for Firm Point-to-Point Transmission Service dated October 7, 1997 and accepted by Letter Order January 2, 1998 in Docket No. ER98-671-000.

The Company requests an effective date of the assignments of July 1, 2000.

Copies of the amended filing were served upon PPL EnergyPlus, LLC, the Virginia State Corporation Commission and the North Carolina Utilities Commission.

Comment date: September 15, 2000, in accordance with Standard Paragraph E at the end of this notice.

9. West Georgia Generating Company L.P.

[Docket No. ER00-2966-001]

Take notice that on August 28, 2000, West Georgia Generating Company (West Georgia), an Exempt Wholesale Generator that owns and operates a 640 MW electric generation plant in Thomastown, Georgia, tendered for filing an amendment to its filing in the above-captioned docket. The amended filing consists of a confidential copy and redacted copies of a Power Purchase Agreement between West Georgia Generating Company L.P. and Municipal Electric Authority of Georgia.

West Georgia requests that the Agreement be permitted to become effective June 1, 2000.

Comment date: September 18, 2000, in accordance with Standard Paragraph E at the end of this notice.

10. West Georgia Generating Company L.P.

[Docket No. ER00-2965-001]

Take notice that on August 28, 2000, West Georgia Generating Company (West Georgia), an Exempt Wholesale Generator that owns and operates a 640 MW electric generation plant in Thomastown, Georgia, tendered for filing an amendment to its filing in the above-captioned docket. The amended filing consists of a confidential copy and redacted copies of a Negotiated Contract for the Purchase of Firm Capacity and Energy between Cataula Generating Company L.P., a predecessor in interest to West Georgia Generating Company L.P., and Georgia Power Company.

West Georgia requests that the Agreement be permitted to become effective June 1, 2000.

Comment date: September 18, 2000, in accordance with Standard Paragraph E at the end of this notice.

11. West Georgia Generating Company L.P.

[Docket No. ER00-2964-001]

Take notice that on August 28, 2000, West Georgia Generating Company (West Georgia), an Exempt Wholesale Generator that owns and operates a 640 MW electric generation plant in Thomastown, Georgia, tendered for filing an amendment to its filing in the above-captioned docket. The amended filing consists of a confidential copy and redacted copies of a Power Purchase Agreement between West Georgia Generating Company L.P. and Oglethorpe Power Corporation.

West Georgia requests that the Agreement be permitted to become effective June 1, 2000.

Comment date: September 18, 2000, in accordance with Standard Paragraph E at the end of this notice.

12. West Georgia Generating Company L.P.

[Docket No. ER00-2962-001]

Take notice that on August 28, 2000, West Georgia Generating Company (West Georgia), an Exempt Wholesale Generator that owns and operates a 640 MW electric generation plant in Thomastown, Georgia, tendered for filing an amendment to its filing in the above-captioned docket. The amended filing consists of a confidential copy and redacted copies of a Negotiated Contract for the Purchase of firm Capacity and Energy between West Georgia Generating Company L.P. and Gulf Power Company.

West Georgia requests that the Agreement be permitted to become effective June 1, 2000.

Comment date: September 18, 2000, in accordance with Standard Paragraph E at the end of this notice.

13. Entergy Services, Inc.

[Docket No. ER00-2621-001]

Take notice that on August 24, 2000, Energy Services, Inc., on behalf of Entergy Louisiana, Inc., tendered for filing a compliance Interconnection and Operating Agreement with Occidental Chemical Corporation in accordance with the Commission's order in Entergy Louisiana, Inc., 92 FERC ¶ 61,052 (2000).

Comment date: September 14, 2000, in accordance with Standard Paragraph E at the end of this notice.

14. California Power Exchange Corporation

[Docket No. ER00-2386-002]

Take notice that on August 25, 2000, the California Power Exchange Corporation (CalPX), on behalf of its CalPX Trading Services Division (CTS), tendered a compliance filing to amend the July 18, 2000 filing in this proceeding. The August 25, 2000, filing does not propose any substantive changes in the CTS Rate Schedule but merely updates that Rate Schedule by integrating changes previously accepted by the Commission to be effective August 1, 2000.

Copies of the filing were served on the California Public Utilities Commission and the Official Service List in Docket No. ER00-2386-000. The filing is also posted on the CalPX website at www.CalPX.com.

Comment date: September 15, 2000, in accordance with Standard Paragraph E at the end of this notice.

15. Commonwealth Edison Company, Commonwealth Edison Company of Indiana

[Docket Nos. ER99-4470-002]

Take notice that on August 29, 2000, Commonwealth Edison Company and Commonwealth Edison Company of Indiana (collectively ComEd), tendered for filing its refund report in compliance with the Commission's order of July 31, 2000, approving the Settlement in the above-referenced proceeding.

Comment date: September 19, 2000, in accordance with Standard Paragraph E at the end of this notice.

Standard Paragraphs

E. Any person desiring to be heard or to protest such filing should file a motion to intervene or protest with the Federal Energy Regulatory Commission, 888 First Street, NE., Washington DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-23064 Filed 9-7-00; 8:45 am]

BILLING CODE 6717-01-M